DEPARTMENT OF HEALTH AND HUMAN SERVICES

Office of the Secretary

[Document Identifier: HHS-OS-0990-0382- 30-D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0990-0382, scheduled to expire on May 31, 2015. Comments submitted during the first public review of this ICR will be provided to OMB. OMB will accept further comments from the public on this ICR during the review and approval period.

DATES: Comments on the ICR must be received on or before May 15, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0382 and document identifier HHS-OS-30D for reference.

Information Collection Request Title: Evaluation of Pregnancy Prevention Approaches—First Follow-up

Abstract: The Office of Adolescent Health (OAH), U.S. Department of Health and Human Services (HHS) is requesting an extension without change of a currently approved information collection request by OMB. The purpose of the extension is to complete the ongoing follow-up data collection for the Evaluation of Adolescent Pregnancy Prevention Approaches (PPA), a multi-site random assignment evaluation of promising approaches to teen pregnancy prevention.

Need and Proposed Use of the Information: The PPA study is being conducted in seven program sites around the country. The proposed extension is necessary to complete ongoing follow-up data collection in five of the seven study sites. The resulting data will be used in a rigorous program impact analysis to assess the effectiveness of each program in reducing rates of teen pregnancy and associated sexual risk behaviors.

Likely Respondents: The 1484 youth participants who agreed to participate in the study upon sample enrollment in 5 impact study sites.

The total annual burden hours estimated for this ICR are summarized in the table below.

Total Estimated Annualized Burden—Hours
Form name | Number of respondents | Number of responses per respondent | Average burden per response (in hours) | Total burden hours
Oklahoma Institute for Child Advocacy (OICA) | 294 | 2 | 42/60 | 412
Ohio Health | 148 | 3 | 42/60 | 310
Children's Hospital Los Angeles | 254 | 2 | 36/60 | 305
EngenderHealth | 240 | 2 | 36/60 | 288
Princeton Center for Leadership Training | 548 | 2 | 36/60 | 658
Total |  |  |  | 1,973

Terry S. Clark,
Assistant Information Collection Clearance Officer.

[FR Doc. 2015-08541 Filed 4-14-15; 8:45 am]

BILLING CODE 4150-30-P